DEPARTMENT OF TRANSPORTATION

Federal Motor Carrier Safety Administration

[Docket No. FMCSA-2006-26367]

Motor Carrier Safety Advisory Committee Series of Public Subcommittee Meetings

AGENCY: Federal Motor Carrier Safety Administration (FMCSA), DOT.

ACTION: Notice of meeting.

SUMMARY: FMCSA announces that the Agency's Motor Carrier Safety Advisory Committee (MCSAC) will hold subcommittee meetings on Monday and Tuesday, July 11 and 12, 2011, and Monday and Tuesday, August 1 and 2, 2011. The meetings will be open to the public for their duration. The subcommittee will discuss how electronic on-board recorder (EOBR) manufacturers could comply with the Agency's communications standards for the transmittal of data files from EOBRs to enforcement officials and related technical issues. This meeting is not a forum for a discussion of broader non-technical EOBR issues. The subcommittee's objective is to prepare a letter report and recommendations on the same for consideration by the full MCSAC, which, in turn, will provide recommendations to the Agency.

TIME AND DATES: Both meetings will be held on Monday and Tuesday, July 11-12, 2011, and Monday and Tuesday, August 1 and 2, 2011, from noon on Monday to 5 p.m., Eastern Time (E.T.), and on Tuesday from 8 a.m. to 5 p.m., E.T. The July 11 and 12, 2011, meeting will be held at the Hilton Alexandria Old Town, 1767 King Street, Alexandria, VA 22314, in the Washington and Jefferson Rooms on the 2nd floor. The August 1 and 2, 2011, meeting will be held at a location in the Washington, DC, area to be announced via posting on the MCSAC Web site (mcsac.fmcsa.dot.gov) in advance of the meeting.

Matters To Be Considered: The subcommittee will consider ideas and concepts that EOBR manufacturers could use to achieve compliance with the Agency's communications standards for the transmittal of data files from EOBRs to enforcement officials. The subcommittee will be comprised of several MCSAC members and certain subject matter experts invited to provide technical assistance to the full MCSAC on ideas and concepts that EOBR manufactures could use to achieve compliance with the Agency's communications standards for the transmittal of data files from EOBRs to enforcement officials and related technical issues.

FOR FURTHER INFORMATION CONTACT: Ms. Shannon L. Watson, Senior Adviser to the Associate Administrator for Policy, Federal Motor Carrier Safety Administration, U.S. Department of Transportation, 1200 New Jersey Avenue, SE., Washington, DC 20590, (202) 385-2395, mcsac@dot.gov.

SUPPLEMENTARY INFORMATION:

I. Background

MCSAC

Section 4144 of the Safe, Accountable, Flexible, Efficient Transportation Equity Act: A Legacy for Users (SAFETEA-LU) (Pub. L. 109-59, 119 Stat. 1144, August 10, 2005) required the Secretary of Transportation to establish a Motor Carrier Safety Advisory Committee. The committee provides advice and recommendations to the FMCSA Administrator on motor carrier safety programs and regulations, and operates in accordance with the Federal Advisory Committee Act (5 U.S.C. App 2).EOBRs

On April 5, 2010 (75 FR 17208), FMCSA published a final rule that revised the Federal Motor Carrier Safety Regulations to incorporate new performance standards for EOBRs used to capture electronically drivers' duty status or hours of service (HOS). These devices will take the place of automatic on-board recording devices (AOBRDs), the subject of a 1988 rule that established the technical requirements under 49 CFR 395.15.

MCSAC Subcommittee (EOBR Technical Issues)

FMCSA has approved a subcommittee dedicated to EOBR technical issues. Specifically, FMCSA believes it would be helpful to have a MCSAC subcommittee work with subject matter experts to identify ideas and concepts that EOBR manufacturers could use to achieve compliance with communications portion of the April 2010 final rule. In the time since the final rule was published, stakeholders in the CMV safety enforcement and EOBR supplier communities have expressed concern that certain provisions of the technical specifications are not clear and that additional information or guidance may be needed so that manufacturers can deliver fully compliant devices to their motor carrier clients. The chairman of the MCSAC subcommittee is a member of the full MCSAC and has been duly appointed. As authorized by the MCSAC Charter and in order to bring a full range of expertise to the subcommittee, the subcommittee membership consists of both MCSAC members and non-MCSAC members. The subcommittee does not have independent authority and will submit all reports and recommendations to the full MCSAC, which, in turn, will provide recommendations to the Agency.

II. Meeting Participation

The meeting will be open to the public for its duration. Public comments may be heard at 4:30 p.m. on each meeting day.

You may submit written comments identified by Docket ID Number FMCSA-2006-26367 by July 12, 2011, for the July 11 meeting and by August 1, 2011, for the August 1 meeting using any of the following methods:

Federal eRulemaking Portal: http://www.regulations.gov. Follow the online instructions for submitting comments.

Mail: Docket Management Facility: U.S. Department of Transportation, 1200 New Jersey Avenue, SE., West Building, Ground Floor, Room W12-140, Washington, DC 20590-0001.

Hand Delivery or Courier: West Building, Ground Floor, Room W12-140, 1200 New Jersey Avenue, SE., between 9 a.m. and 5 p.m. E.T, Monday through Friday except Federal holidays.

Fax: 202-493-2251.

Do not submit the same comment by more than one method. To allow effective public participation before the comment period deadline, FMCSA encourages use of the Web site listed above (Federal eRulemaking Portal: http://www.regulations.gov).

III. Services for Individuals With Disabilities

For assistance with services for individuals with disabilities or to request special assistance, please send your request to the address listed in the FOR FURTHER INFORMATION CONTACT section of this notice, or e-mail your request to shannon.watson@dot.gov by Thursday, June 30 for the July 11 meeting or Thursday, July 28 for the August 1 meeting.

Issued on: June 23, 2011.
Larry W. Minor,
Associate Administrator for Policy.

[FR Doc. 2011-16271 Filed 6-28-11; 8:45 am]

BILLING CODE 4910-EX-P